ENVIRONMENTAL PROTECTION AGENCY

[EPA-HQ-OPP-2005-0307; FRL-7755-3]

Notice of Filing of Pesticide Petitions for the Establishment of Regulations for Residues of the Fungicide Mancozeb in or on Food Commodities; Extension of Comment Period

AGENCY: Environmental Protection Agency (EPA).

ACTION: Notice; extension of comment period.

SUMMARY: EPA issued a notice in the Federal Register of November 30, 2005, concerning the initial filing of a pesticide petition proposing the establishment of regulations for residues of mancozeb in or on almond nuts and hulls; broccoli, cabbage, lettuce and peppers; and imported oranges/mandarins with a 30-day public comment period. This document is extending the comment period for 20 days, from December 30, 2005 to January 19, 2006.

DATES: Comments, identified by docket identification (ID) number EPA- HQ- OPP-2005-0307 must be received on or before January 19, 2006.

ADDRESSES: Comments may be submitted electronically, by mail, or through hand delivery/courier. Follow the detailed instructions as provided in Unit I.C. of the SUPPLEMENTARY INFORMATION of the November 30, 2005 Federal Register document.

FOR FURTHER INFORMATION CONTACT: Lisa Jones, Registration Division (7505C), Office of Pesticide Programs, Environmental Protection Agency, 1200 Pennsylvania Ave., NW., Washington, DC 20460-0001; telephone number: (703) 308-9424; e-mail address:jones.lisa@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established an official public docket for this action under docket ID number EPA-HQ- OPP--2005-0307. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305--5805.

2. Electronic access. You may access this Federal Register document electronically through the EPA Internet under the“Federal Register” listings at http://www.epa.gov/fedrgstr/.

EDOCKET, EPA's electronic public docket and comment system was replaced on November 25, 2005, by an enhanced Federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the November 30, 2005 Federal Register document. If you have questions, consult the person listed under FOR FURTHER INFORMATION CONTACT.

II. What Action is EPA Taking?

This document extends the public comment period established in the Federal Register of November 30, 2005 (70 FR 71836) (FRL-7747-5). In that document, Notice of Filing of Pesticide Petitions for the Establishment of Regulations for Residues of the Fungicide Mancozeb in or on Food Commodities, the comment period was set to end on December 30, 2005, EPA is hereby extending it to January 19, 2006.

III. What is the Agency's Authority for Taking this Action?

In accordance with section 408(d)(3) of the Federal Food, Drug, and Cosmetic Act, the Administrator shall publish a notice of filing of a petition.

List of Subjects

Environmental protection, Pesticides and pests.

Dated: December 22, 2005.
Lois Rossi,
Director, Registration Division, Office of Pesticide Programs

[FR Doc. E5-8040 Filed 12-29-05; 8:45 am]

BILLING CODE 6560-50-S